DEPARTMENT OF DEFENSE

Department of the Navy

Meeting of the Ocean Research and Resources Advisory Panel

AGENCY: Department of the Navy, DoD.

ACTION: Notice of Open Meeting.

SUMMARY: The Ocean Research and Resources Advisory Panel (ORRAP) will hold a regularly scheduled meeting. The meeting will be open to the public.

DATES: The meeting will be held on Tuesday, July 27, 2010, from 8:30 a.m. to 5:30 p.m. and on Wednesday, July 28, 2010, from 8:30 a.m. to 2 p.m. Members of the public should submit their comments in advance of the meeting to the meeting Point of Contact.

ADDRESSES: The meeting will be held at the Alaska SeaLife Center, 301 Railway Ave., Seward, AK 99664.

FOR FURTHER INFORMATION CONTACT: Dr. Charles L. Vincent, Office of Naval Research, 875 North Randolph Street, Suite 1425, Arlington, VA 22203-1995, telephone 703-696-4118.

SUPPLEMENTARY INFORMATION: This notice of open meeting is provided in accordance with the Federal Advisory Committee Act (5 U.S.C. App. 2). The meeting will include discussions on ocean research, resource management, and other current issues in the ocean science and management communities.

Dated: June 17, 2010.
H.E. Higgins,
Lieutenant, Judge Advocate Generals Corps, U.S. Navy, Alternate Federal Register Liaison Officer.

[FR Doc. 2010-15294 Filed 6-23-10; 8:45 am]

BILLING CODE 3810-FF-P